DEPARTMENT OF TRANSPORTATION

Applications for the Environment: Real-Time Information Synthesis (AERIS) User Needs Workshop; Notice of Public Meeting

AGENCY: Research and Innovative Technology Administration, U.S. Department of Transportation.

ACTION: Notice.

The U.S. Department of Transportation (USDOT) Intelligent Transportation System Joint Program Office (ITS JPO) will host a free public workshop to discuss the Applications for the Environment: Real-Time Information Synthesis (AERIS) Program and solicit user needs for its Transformative Concepts on March 14, 2012, 9 a.m. to 5 p.m. and March 15, 2012, 9 a.m. to 4:30 p.m. at the Hall of States, 444 North Capitol Street NW., Washington, DC 20001, 202-624-5490. On March 14th, the first three hours of the workshop will also be webcast at no charge for those participants who are not able to participate in person. An electronic feedback form will be made available to allow participants to provide additional input.

Persons planning to attend any part of the workshop or participate in the three-hour Webinar should register online at http://www.itsa.org/AERIS_User_Needs_Workshop by February 29, 2012. Please specify if you plan to attend in person or participate via Webinar. For additional questions, please contact Adam Hopps at Ahopps@ITSA.org or 202-680-0091.

About the AERIS Program

At the core of Federal ITS research is connected vehicle research—a multimodal initiative that aims to enable safe, interoperable networked wireless communications among vehicles, the infrastructure, and passengers' personal communications devices. This research leverages the potentially transformative capabilities of wireless technology to make surface transportation safer, smarter, and greener. The objective of the AERIS research program is to generate and acquire environmentally-relevant real-time transportation data, and use these data to create actionable information that supports and facilitates “green” transportation choices by transportation system users and operators. Employing a multi-modal approach, the AERIS Program will work in partnership with the vehicle-to-vehicle (V2V) and vehicle-to-infrastructure (V2I) communications research efforts to better define how connected vehicle data and applications might contribute to mitigating some of the negative environmental impacts of surface transportation.

About the AERIS User Needs Workshop

The purpose of this workshop is to obtain stakeholder input on the Concepts of Operations (ConOps) that will be developed for the set of AERIS Transformative Concepts. Transformative Concepts are integrated operational concepts that use V2V, V2I, and other data and communications in innovative ways to operate surface transportation networks to reduce transportation-related emissions and fuel consumption. Transformative Concepts are intended to change the way surface transportation systems operate, with an emphasis on combining connected vehicle applications to provide significant environmental benefits. The AERIS Transformative Concepts include: (1) Eco-signal operations, (2) eco-lanes, (3) low-emissions zone, (4) eco-traveler information, (5) support for alternative fuel vehicle operations, and (6) eco-integrated corridor management. During this workshop, the AERIS team will facilitate interactive breakout sessions to obtain stakeholder input on desired capabilities, data needs, and modeling needs. This valuable feedback will be utilized by the USDOT to further define the Transformative Concepts and provide input into the ConOps. Input from this workshop will enable the USDOT in conducting future research and modeling to determine potential environmental benefits in a connected vehicle environment. For more information on the AERIS Program and the Transformative Concepts, visit: http://www.its.dot.gov/aeris/index.htm.

Issued in Washington, DC, on the 8th day of February 2012.
Shelley Row,
Director, ITS Joint Program Office.

[FR Doc. 2012-3349 Filed 2-13-12; 8:45 am]

BILLING CODE 4910-HY-P